DEPARTMENT OF ENERGY

Federal Energy Regulatory Commission

Combined Notice of Filings

Take notice that the Commission has received the following Natural Gas Pipeline Rate and Refund Report filings:

Docket Number: PR21-11-000.

Applicants: Columbia Gas of Ohio, Inc.

Description: Tariff filing per 284.123(b),(e)/: COH Rates effective Nov 25 2020 to be effective 11/25/2020 Filing Type: 980.

Filed Date: 12/22/20.

Accession Number: 202012225073.

Comments Due: 5 p.m. ET 1/12/2021.

Docket Numbers: RP21-326-000.

Applicants: Tennessee Gas Pipeline Company, L.L.C.

Description: § 4(d) Rate Filing: Volume No. 2—SWN Energy Services Company, LLC SP102504 to be effective 2/1/2021.

Filed Date: 12/22/20.

Accession Number: 20201222-5009.

Comments Due: 5 p.m. ET 1/4/21.

Docket Numbers: RP21-327-000.

Applicants: Enable Gas Transmission, LLC.

Description: § 4(d) Rate Filing: Negotiated Rate Filing—January 1, 2021 SWEPCO 1006349 to be effective 1/1/2021.

Filed Date: 12/22/20.

Accession Number: 20201222-5087.

Comments Due: 5 p.m. ET 1/4/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2020.
Nathaniel J. Davis, Sr.,
Deputy Secretary.

[FR Doc. 2020-28970 Filed 12-30-20; 8:45 am]

BILLING CODE 6717-01-P